DEPARTMENT OF AGRICULTURE

Food and Nutrition Service

7 CFR Part 226

Child and Adult Care Food Program

CFR Correction

In Title 7 of the Code of Federal Regulations, Parts 210 to 299, revised as of January 1, 2015, on page 212, in § 226.6, remove the term “renewing” and add the term “participating” in its place, in paragraphs (c)(3)(iii)(B)(1)(ii) and (c)(3)(iii)(B)(2)(iii).

[FR Doc. 2015-32134 Filed 12-21-15; 8:45 am]

BILLING CODE 1505-01-D